DEPARTMENT OF THE INTERIOR

National Park Service

[NPS-WASO-NAGPRA-NPS0035219; PPWOCRADN0-PCU00RP14.R50000]

Notice of Inventory Completion: American Museum of Natural History, New York, NY

AGENCY: National Park Service, Interior.

ACTION: Notice.

SUMMARY: In accordance with the Native American Graves Protection and Repatriation Act (NAGPRA), the American Museum of Natural History (“AMNH” or “Museum”) has completed an inventory of human remains and associated funerary objects and has determined that there is a cultural affiliation between the human remains and associated funerary objects and Indian Tribes or Native Hawaiian organizations in this notice. The human remains and associated funerary objects were removed from: an unknown locale in NJ; Bergen County, NJ; Gloucester County, NJ; Middlesex County, NJ; Morris County, NJ; either Bergen County, NJ or Rockland County, NY; Bronx County, NY; either Bronx County or Westchester County, NY; Dutchess County, NY; New York County, NY; Orange County, NY; Ulster County, NY; and Westchester County, NY.

DATES: Repatriation of the human remains and associated funerary objects in this notice may occur on or after March 3, 2023.

ADDRESSES: Nell Murphy, American Museum of Natural History, 200 Central Park West, New York, NY 10024, telephone (212) 769-5837, email nmurphy@amnh.org.

SUPPLEMENTARY INFORMATION: This notice is published as part of the National Park Service's administrative responsibilities under NAGPRA. The determinations in this notice are the sole responsibility of the AMNH. The National Park Service is not responsible for the determinations in this notice. Additional information on the determinations in this notice, including the results of consultation, can be found in the inventory or related records held by the AMNH.

Description

In an unknown year, human remains with an embedded arrowhead representing, at minimum, one individual were removed from an unknown locale in New Jersey by an unknown collector. In 1941, the Museum acquired these human remains from Albert L. Lane as a gift and accessioned them that same year.

On June 21, 1936, human remains representing, at minimum, one individual were removed from Bergen County, NJ, by C.K. Nicholas. In 1937, the Museum acquired these human remains as a gift from Mr. Harvey O. Havermeyer and accessioned them that same year.

In possibly 1880 or 1888, human remains representing, at minimum, one individual were removed from Gloucester County, NJ, by Herbert G. Chase. In 1938, the Museum acquired these human remains as a gift from Mr. A. LA Motte and accessioned them that same year.

In 1907, human remains representing, at minimum, one individual were removed from Middlesex County, NJ, by Alanson B. Skinner as part of an expedition. The Museum accessioned these human remains that same year.

Around 1904, human remains representing, at minimum, one individual were removed from Morris County, NJ, by Mr. C. L. Jellinghaus, who gifted them to the Museum in 1944. The Museum accessioned these human remains that same year.

In an unknown year, human remains representing, at minimum, one individual were removed from either Bergen County, NJ or Rockland County, NY, by Works Progress Administration (WPA) workers. In 1938, the Museum acquired these human remains as a gift from an anonymous source and accessioned them that same year.

In an unknown year, human remains representing, at minimum, four individuals were removed from Bronx County, NY, possibly by Mr. J.B. James, Jr. In 1895, the Museum acquired these human remains and accessioned them that same year. The four associated funerary objects are four animal bone fragments.

Likely in 1916, human remains representing, at minimum, one individual were removed from either Bronx County or Westchester County, NY, by Mr. Grant Madison who gifted them to the Museum in 1916. The Museum accessioned these human remains that same year.

On an unknown date, human remains representing, at minimum, one individual were removed from Bronx County, NY, by an unknown collector. In 1923, the Museum acquired these human remains as a gift from Mr. Frank S. Parker and accessioned them that same year.

In 1882, human remains representing, at minimum, 12 individuals were removed from Dutchess County, NY, by Mr. Henry Booth. In 1908, the Museum acquired these human remains as a gift from Mr. Henry Booth and accessioned them that same year.

In an unknown year, human remains representing, at minimum, four individuals were removed from Dutchess County, NJ, by an unknown collector. In 1908, the Museum acquired these human remains as a gift from Mr. Henry Booth and accessioned them that same year.

In either 1907 or 1908, human remains representing, at minimum, one individual were removed from New York County, NY, by Mr. Reginald P. Bolton. In 1910, the Museum purchased these human remains from Mr. Bolton and accessioned them that same year.

In either 1907 or 1908, human remains representing, at minimum, one individual were removed from New York County, NY, by Mr. Reginald P. Bolton and W.L. Calver. In 1910, the Museum purchased these human remains from Mr. Bolton and accessioned them that same year.

In an unknown year, human remains representing, at minimum, one individual were removed from New York County, NY, by an unknown collector. The museum acquired these human remains on an unknown date.

On an unknown date, human remains representing, at minimum, one individual were removed from New York County, NY, by an unknown collector. In 1935, the Museum acquired these human remains as a gift from Mr. John King and accessioned them that same year.

On an unknown date, human remains representing, at minimum, two individuals were removed from New York County, NY, by an unknown collector. In 1919, the Museum acquired these human remains as a gift from Mr. Alex Johnson and accessioned them that same year.

In June of 1962, human remains representing, at minimum, two individuals were removed from Orange County, NY, by Mr. Ben Johnson. In 1962, the Museum acquired these human remains from Mr. Johnson as a gift and accessioned them that same year.

On an unknown date, human remains representing, at minimum, two individuals were removed from Orange County, NY, by Mr. P.R. Sleight. In 1881, the Museum acquired these human remains from Mr. Sleight as a gift and accessioned them that same year.

In 1899, human remains representing, at minimum, one individual were removed from Ulster County, NY, by Mr. J.O. Martin, who gave them to Mr. Henry Booth that same year. In 1908, the Museum acquired these human remains as a gift from Mr. Booth and accessioned them that same year.

In 1899, human remains representing, at minimum, one individual were removed from Westchester County, NY, by Mr. M. Raymond Harrington. In 1899, the Museum acquired these human remains as a gift and accessioned them that same year. The six associated funerary objects are one lot of animal bones, one piece of deer antler, one flint scraper, one lot of oyster shells, one cut bone piece, and one lot of charcoal and nut pieces.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, geographical, and historical.

Determinations

Pursuant to NAGPRA and its implementing regulations, and after consultation with the appropriate Indian Tribes and Native Hawaiian organizations, the AMNH has determined that:

• The human remains described in this notice represent the physical remains of 40 individuals of Native American ancestry.

• The 10 objects described in this notice are reasonably believed to have been placed with or near individual human remains at the time of death or later as part of the death rite or ceremony.

• There is a relationship of shared group identity that can be reasonably traced between the human remains and associated funerary objects described in this notice and the Delaware Nation, Oklahoma; Delaware Tribe of Indians; and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 3, 2023. If competing requests for repatriation are received, the AMNH must determine the most appropriate requestor prior to repatriation. Requests for joint repatriation of the human remains and associated funerary objects are considered a single request and not competing requests. The AMNH is responsible for sending a copy of this notice to the Indian Tribes identified in this notice.

Authority: Native American Graves Protection and Repatriation Act, 25 U.S.C. 3003, and the implementing regulations, 43 CFR 10.9, 10.10, and 10.14.

Dated: January 25, 2023.
Melanie O'Brien,
Manager, National NAGPRA Program.

[FR Doc. 2023-02064 Filed 1-31-23; 8:45 am]

BILLING CODE 4312-52-P